DEPARTMENT OF HOUSING AND URBAN DEVELOPMENT

[Docket No. FR-5480-N-14]

Notice of Submission of Proposed Information Collection to OMB Family Unification Program (FUP)

AGENCY: Office of the Chief Information Officer, HUD.

ACTION: Notice.

SUMMARY: The proposed information collection requirement described below has been submitted to the Office of Management and Budget (OMB) for review, as required by the Paperwork Reduction Act. The Department is soliciting public comments on the subject proposal.

Application for the Family Unification Program: Makes Housing Choice Vouchers available to eligible families to promote family reunification. Youths 18 to 21 who left foster care at age 16 or older are also eligible to receive assistance under the program for a maximum of 18 months. Eligible applicants are Public Housing Agencies, who must work with a Public Child Welfare Agency to identify and assist FUP voucher recipients. Information collected will be used to evaluate applications and award grants through the HUD SuperNOFA process.

DATES: Comments Due Date: April 1, 2011

ADDRESSES: Interested persons are invited to submit comments regarding this proposal. Comments should refer to the proposal by name and/or OMB approval Number (2577-0259) and should be sent to: HUD Desk Officer, Office of Management and Budget, New Executive Office Building, Washington, DC 20503; e-mail OIRA-Submission@omb.eop.gov fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Family Unification Program (Fup).

OMB Approval Number: 2577-0259.

Form Numbers: HUD 96011, SF-424, HUD 52515, HUD-27061, HUD 2994-A, SFLLL, HUD 2993, HUD-2880, HUD-2990, HUD 50058.

Description of the Need for the Information and its Proposed Use: Application for the Family Unification Program: makes Housing Choice Vouchers available to eligible families to promote family reunification. Youths 18 to 21 who left foster care at age 16 or older are also eligible to receive assistance under the program for a maximum of 18 months. Eligible applicants are Public Housing Agencies, who must work with a Public Child Welfare Agency to identify and assist FUP voucher recipients. Information collected will be used to evaluate applications and award grants through the HUD SuperNOFA process.

Frequency of Submission: Annually, Other one-time application.

| Number of respondents | Annual responses | × | Hours per response | = | Burden hours
Reporting Burden | 265 | 23.026 |  | 0.0434 |  | 265

Total Estimated Burden Hours: 265.

Status: Revision of a currently approved collection.

Authority: Section 3507 of the Paperwork Reduction Act of 1995, 44 U.S.C. 35, as amended.

Dated: February 23, 2011.
Colette Pollard,
Departmental Reports Management Officer, Office of the Chief Information Officer.

[FR Doc. 2011-4565 Filed 3-1-11; 8:45 am]

BILLING CODE 4210-67-P